DEPARTMENT OF AGRICULTURE

Federal Crop Insurance Corporation

7 CFR Part 457

RIN 0563-AC04

Common Crop Insurance Regulations, Mustard Crop Insurance Provisions; Correction

AGENCY: Federal Crop Insurance Corporation, USDA.

ACTION: Final rule; correction.

SUMMARY: This document contains corrections to the final regulation which was published Monday, March 3, 2008 (73 FR 11318-11323). The regulation pertains to the insurance of Mustard.

DATES: Effective Date: April 2, 2008.

FOR FURTHER INFORMATION CONTACT: Gary Johnson, Risk Management Specialist, Product Management, Product Administration and Standards Division, Risk Management Agency, United States Department of Agriculture, Beacon Facility—Mail Stop 0812, P.O. Box 419205, Kansas City, MO 64141-6205, telephone (816) 926-7730.

SUPPLEMENTARY INFORMATION:

Background

The final regulation that is the subject of these corrections was intended to amend certain Mustard Crop Insurance Provisions to be used in conjunction with the Common Crop Insurance Policy Basic Provisions for ease of use and consistency of terms.

Need for Corrections

As published at 73 FR 11318, the final regulation contained errors that may prove to be misleading and need to be clarified.

1. The first error is contained in the beginning in the Final Rule under section 1 on page 11320. The definition of “Mustard” is incorrect. The text should read as follows:

§ 457.168 Mustard Crop Insurance Provisions

* * * * *

1. Definitions

* * * * *

Mustard. A crop of the family Cruciferae.

* * * * *

2. The second error in section 13(d)(4) on page 11323 contains an additional (i). This second subsection (i) is incorrect. The text should read (ii).

3. The third error in section 13(d)(4) on page 11323 contains an additional (ii) due to the correction above. This second subsection (ii) is incorrect. The text should read (iii).

Signed in Washington, DC, on March 27, 2008.
James Callan,
Acting Manager, Federal Crop Insurance Corporation.

[FR Doc. E8-6728 Filed 3-31-08; 8:45 am]

BILLING CODE 3410-08-P